POSTAL REGULATORY COMMISSION

39 CFR Part 3020

[Docket Nos. MC2010-11 and CP2010-11; Order No. 362]

New Postal Product

AGENCY: Postal Regulatory Commission.

ACTION: Final rule.

SUMMARY: The Commission is adding Inbound Air Parcel Post at non-Universal Postal Union rates to the product list. This action is consistent with changes in a postal reform law. The Commission is also making clarifying editorial changes to a related product that is already on the product list. Republication of the lists of market dominant and competitive products is consistent with a statutory requirement.

DATES: Effective January 26, 2010 and is applicable beginning December 15, 2009.

FOR FURTHER INFORMATION CONTACT: Stephen L. Sharfman, General Counsel, 202-789-6820 or stephen.sharfman@prc.gov.

SUPPLEMENTARY INFORMATION: Regulatory History, 74 FR 62357 (November 27, 2009).

I. Introduction

II. Background

III. Comments

IV. Commission Analysis

V. Ordering Paragraphs

I. Introduction

The Postal Service seeks to add a new product, Inbound Air Parcel Post at Universal Postal Union (UPU) Rates, to the Competitive Product List. For the reasons discussed below, the Commission approves the Request.

II. Background

On November 17, 2009, the Postal Service filed a request pursuant to 39 U.S.C. 3642 and 39 CFR 3020.30 et seq. to add Inbound Air Parcel Post at Universal Postal Union (UPU) Rates to the Competitive Product List.¹ The Postal Service asserts that Inbound Air Parcel Post is a competitive product within the meaning of 39 U.S.C. 3632(b)(3).

¹ Request of the United States Postal Service to Add Inbound Air Parcel Post at Universal Postal Union (UPU) Rates to the Competitive Products List, Notice of Establishment of Prices and Classifications Not of General Applicability for Inbound Air Parcel Post at UPU Rates Established in Governors' Decision No. 09-15, and Application for Non-Public Treatment of Materials Filed Under Seal, November 17, 2009 (Request).

The Postal Service states that prices and classifications underlying these rates are supported by Governors' Decision No. 09-15.² Id. at 1-2. This Request has been assigned Docket No. MC2010-11.

² The Request and Governors' Decision both note that the classification for Inbound Air Parcel Post was originally proposed by the Postal Service for the Mail Classification Schedule language in response to Docket No. RM2007-1, Order Establishing Ratemaking Regulations for Market Dominant and Competitive Products, October 29, 2007 (Order No. 43). Id. at 1.

The Postal Service states that Governors' Decision No. 09-15 establishes the prices for Inbound Air Parcel Post at UPU Rates and the changes in classification necessary to implement those prices. Id. at 3. Governors' Decision No. 09-15 authorizes inward land rates when there is no contractual relationship with the tendering postal operator at the highest inward land rate for which the United States is eligible under the Parcel Post Regulations. Id. These rates are assigned Docket No. CP2010-11.

Request. In support of its Request, the Postal Service filed the following materials: (1) An application for non-public treatment of pricing and supporting documents filed under seal; ³ (2) a Statement of Supporting Justification as required by 39 CFR 3020.32;⁴ (3) a redacted version of Governors' Decision No. 09-15 establishing prices and classifications for Inbound Air Parcel Post at UPU Rates, certification of the Governors' vote, a certification of compliance with 39 U.S.C. 3633(a), proposed Mail Classification Schedule (MCS) language, and a Management Analysis of Inbound Air Parcel Post at UPU Rates.⁵

³ Attachment 1 to the Request.

⁴ Attachment 2 to the Request.

⁵ Attachment 3 to the Request.

Inbound Air Parcels are eligible to receive transportation by air rather than surface. Governors' Decision No. 09-15 at 2. The Postal Service indicates that the United States receives both air and surface parcels from foreign postal administrations which compensate the Postal Service for delivery of these parcels in the United States. It maintains that it has negotiated separate agreements for parcel rates with certain foreign posts, but most compensate it at the United States default rates for inbound parcel delivery. The default rates are known as inward land rates. The Postal Service notes that inward land rates are set according to formulas in the UPU Parcel Post Regulations which constitute international law. More specifically, the UPU Postal Operations Council sets these rates. Request at 2.

The Postal Service states that UPU Parcel Post Regulations require that rates are based on a percentage of each member's inward land rate in 2004.⁶ UPU members may qualify for percentage “bonuses” to their base rate based upon their provision of certain value-added services.⁷ The Postal Service states it is responsible for gathering information that the UPU Postal Operations Council uses to calculate the rates, including completion of a questionnaire on service bonus eligibility, and submission of annual inflation information from the Consumer Price Index for All Urban Consumers. It explains that the UPU uses this information from the member posts and publishes an annual notice in the fall establishing each postal administration's parcel rates for the following year. Request at 3.

⁶ The Postal Service states that the Parcel Post Regulations also permit members to seek an “inflation-linked increase” to its base inward land rate up to a cap of 5 percent.

⁷ The Postal Service states that services such as “track and trace, home delivery, published delivery standards, and use of a common inquiry system” qualify UPU members for bonuses. Id. Members may also seek an inflation-related adjustment to the base rate which is capped at 5 percent per year.

The Postal Service states that because of the unique situation of setting inward land rates, it chose to establish rates for inbound air parcels by reference to the Universal Postal Convention. Id.

In the Statement of Supporting Justification, Brian Hutchins, Manager, International Postal Relations, asserts that the product satisfies 39 U.S.C. 3633(a). Id., Attachment 2, at 1-2.

W. Ashley Lyons, Manager, Regulatory Reporting and Cost Analysis, Finance Department, certifies that the contract complies with 39 U.S.C. 3633(a). Request, Attachment 3. He asserts that the prices for Inbound Air Parcel Post at UPU Rates “should cover its attributable costs and preclude the subsidization of competitive products by market dominant products.” Id.

The Postal Service filed much of the supporting materials under seal. In its Request, the Postal Service maintains that certain portions of Governors' Decision No. 09-15 and related financial information should remain confidential including portions of the management financial analysis of Inbound Air Parcel Post at UPU Rates and the accompanying analyses that provide prices, terms, conditions, cost data, and financial projections should remain under seal. Request at 2. Prices and classification changes established in Governors' Decision No. 09-15 are scheduled to take effect January 1, 2010. Governors' Decision No. 09-15 at 2.

In Order No. 345, the Commission gave notice of the two dockets, appointed a public representative, and provided the public with an opportunity to comment.⁸

⁸ PRC Order No. 345, Notice and Order Concerning Adding Inbound Air Parcel Post at UPU Rates to Competitive Product List, November 20, 2009 (Order No. 345).

III. Comments

Comments were filed by the Public Representative.⁹ No other interested person submitted comments. The Public Representative states the Postal Service Request complies with applicable provisions of title 39, Commission rules, and the UPU. Id. at 1. He also notes the Postal Service has provided a rationale for non-public treatment of the information under seal. Id. at 2.

⁹ Public Representatives Comments in Response to United States Postal Service Filing of Request to Add Inbound Air Parcel Post at UPU Rates to the Competitive Products List, December 7, 2009 (Public Representative Comments).

The Public Representative theorizes that in the instant agreement the Postal Service has not shown the cost coverage for Inbound Air Parcel Post is in compliance with 39 U.S.C. 3633. Id. at 4. He states that the Commission will have the ability to gain further information to determine cost coverage for this product with issuance of the Annual Compliance Determination (ACD). Id. However, the Public Representative concludes that the Postal Service's proposal results in a benefit to its customers and the general public. Id. at 5.

IV. Commission Analysis

The Commission has reviewed the Request, the agreement, the financial analysis filed under seal, and the comments filed by all parties.

Statutory requirements. The Commission's statutory responsibilities in this instance entail assigning the Inbound Air Parcel Post at UPU Rates to either the Market Dominant Product List or to the Competitive Product List. 39 U.S.C. 3642. As part of this responsibility, the Commission also reviews the proposal for compliance with the Postal Accountability and Enhancement Act (PAEA) requirements. This includes, for proposed competitive products, a review of the provisions applicable to rates for competitive products. 39 U.S.C. 3633.

Product list assignment. In determining whether to assign Inbound Air Parcel Post at UPU Rates to the Market Dominant Product List or the Competitive Product List, the Commission must consider whether “the Postal Service exercises sufficient market power that it can effectively set the price of such product substantially above costs, raise prices significantly, decrease quality, or decrease output, without risk of losing a significant level of business to other firms offering similar products.” 39 U.S.C. 3642(b)(1). If so, the product will be categorized as market dominant. The competitive category of products shall consist of all other products.

The Commission is further required to consider the availability and nature of enterprises in the private sector engaged in the delivery of the product, the views of those who use the product, and the likely impact on small business concerns. 39 U.S.C. 3642(b)(3).

The Postal Service asserts that it does not have discretion to establish the formula for prices for Inbound Air Parcel Post at UPU Rates and therefore there is no connection between prices and the Postal Services' market role. Request, Attachment 2, para. (d). It affirms, as discussed above, that inward land rates are set based on formulas in the UPU Parcel Post Regulations which constitute international law. Under the Universal Postal Convention, postal operators tender air parcels to each other for delivery in the destination country at prices set by the UPU Postal Operations Council, except where postal operators have negotiated alternative prices for air parcels. Governors' Decision No. 09-15 at 1. As described above, annually, UPU members may elect to send the UPU secretariat inflation information in accordance with the Parcel Post Regulations in order to seek an “inflation-linked increase” to its base inward land rate up to a cap of 5 percent. Additionally, UPU members may qualify for “bonuses” to their new base rate if they provide certain value-added services, such as home delivery.

The Postal Service states that the United States completes a survey each year to qualify for the bonus based on its eligibility. Id. At the end of each year, the UPU's secretariat publishes each member's inward land rates based on its inflation information and questionnaire responses. Id. The Postal Service states that new rates are implemented at the beginning of the next calendar year and are effective until the end of that year. Id. Therefore, it concludes it does not exercise market power over this product relative to pricing. Request, Attachment 2, at 2.

The Postal Service states there are private consolidators, freight forwarders, and integrators who can provide similar services. Id. at 3, para. (f). It further states that this agreement has been classified as competitive because of its exclusion from the letter monopoly and the level of competition in the relevant market. Id. at 3.

The Postal Service notes that even though some incoming parcels subject to this agreement may contain letters, the prices paid under the agreement are higher than six times the rate for the current price of a one-ounce, single-piece First-Class Mail letter. Id., para. (e). It also remarks that international parcel service has been a feature of the UPU system for decades which it suggests means that the international community finds the terms and conditions of the agreement satisfactory since there are competitive services available from private enterprises. The Postal Service states however, that it has no specific data on foreign postal operators or their customer's views on the regulatory classification of Inbound Air Parcel Post at UPU Rates. Id., para. (g). The Postal Service states that the proposed modification is unlikely to have an impact on small business concerns since the product has been available for decades, and this agreement does not affect the availability of the service or the terms and conditions which affect small business. Id., para. (h). The Postal Service notes that the proposed modification does not concern a change in the rates for which the Postal Service exercises discretion, but this proceeding formally presents the product for review by the Commission. Id., para. (i).

The Postal Service's Request notes that it has previously taken steps to add Inbound Air Parcel Post paying rates established through the UPU to the competitive products list and refers to Order No. 43.¹⁰ In Order No. 43, the Commission classified Inbound Air Parcel Post in the MCS as a competitive product, which included those at UPU rates. The Postal Service subsequently filed a negotiated service agreement with Royal Mail for Inbound Air Parcel Post which the Commission approved in Order No. 218, adding it as a new product to the Competitive Product List.¹¹

¹⁰ See Docket No. RM2007-1, Order Establishing Ratemaking Regulations for Market Dominant and Competitive Products, October 29, 2007 at para. 3030 “[A]ir Parcel Post Shipments are appropriately classified as competitive.”

¹¹ See Docket Nos. MC2009-24 and CP2009-28, Order Concerning Royal Mail Inbound Air Parcel Post Negotiated Service Agreement, May 29, 2009.

The Postal Service proposes to add Inbound Air Parcel Post at UPU rates as a new product. See Request at 1. Thus, the Request presents for regulatory review a new product, Inbound Air Parcel Post at UPU Rates, for inclusion in the MCS.

Having considered the statutory requirements, the support offered by the Postal Service, and all comments, the Commission finds that Inbound Air Parcel Post at UPU Rates is appropriately classified as a competitive product and that it shall be added to the Competitive Product List.

The existing category, Inbound Air Parcel Post, shall be renamed Inbound Air Parcel Post (at non-UPU rates). Currently, this category includes the Royal Mail Inbound Air Parcel Post Agreement.

Cost considerations. The Postal Service presents a financial analysis showing that the Inbound Air Parcel Post at UPU Rates product covers its attributable costs, does not result in subsidization of competitive products by market dominant products, and increases contribution from competitive products.

Based on the data submitted, the Commission finds that Inbound Air Parcel Post at UPU Rates should cover its attributable costs (39 U.S.C. 3633(a)(2)), should not lead to the subsidization of competitive products by market dominant products (39 U.S.C. 3633(a)(1)), and should have a positive effect on competitive products' contribution to institutional costs (39 U.S.C. 3633(a)(3)). Thus, an initial review of the proposed Inbound Air Parcel Post at UPU Rates agreement indicates that it comports with the provisions applicable to rates for competitive products.

In conclusion, the Commission approves Inbound Air Parcel Post at UPU Rates as a new product. The revision to the Competitive Product List is shown below the signature of this order and is effective upon issuance of this order.

V. Ordering Paragraphs

It is ordered:

1. Inbound Air Parcel Post (at UPU Rates) is added to the Competitive Product List as a new product.

2. The existing Inbound Air Parcel Post category which includes the Royal Mail Group Inbound Air Parcel Post Agreement shall be renamed Inbound Air Parcel Post (at non-UPU rates).

3. The Secretary shall arrange for the publication of this Order in the Federal Register.

List of Subjects in 39 CFR Part 3020

Administrative Practice and Procedure; Postal Service.

By the Commission.
Shoshana M. Grove,
Secretary.

For the reasons discussed in the preamble, the Postal Regulatory Commission amends chapter III of title 39 of the Code of Federal Regulations as follows:

PART 3020—PRODUCT LISTS

1. The authority citation for part 3020 continues to read as follows:

Authority: Authority: 39 U.S.C. 503; 3622; 3631; 3642; 3682.

2. Revise Appendix A to Subpart A of Part 3020-Mail Classification Schedule to read as follows:

Appendix A to Subpart A of Part 3020—Mail Classification Schedule

Part A—Market Dominant Products
1000 Market Dominant Product List
First-Class Mail
Single-Piece Letters/Postcards
Bulk Letters/Postcards
Flats
Parcels
Outbound Single-Piece First-Class Mail International
Inbound Single-Piece First-Class Mail International
Standard Mail (Regular and Nonprofit)
High Density and Saturation Letters
High Density and Saturation Flats/Parcels
Carrier Route
Letters
Flats
Not Flat-Machinables (NFMs)/Parcels
Periodicals
Within County Periodicals
Outside County Periodicals
Package Services
Single-Piece Parcel Post
Inbound Surface Parcel Post (at UPU rates)
Bound Printed Matter Flats
Bound Printed Matter Parcels
Media Mail/Library Mail
Special Services
Ancillary Services
International Ancillary Services
Address List Services
Caller Service
Change-of-Address Credit Card Authentication
Confirm
International Reply Coupon Service
International Business Reply Mail Service
Money Orders
Post Office Box Service
Negotiated Service Agreements
HSBC North America Holdings Inc. Negotiated Service Agreement
Bookspan Negotiated Service Agreement
Bank of America Corporation Negotiated Service Agreement
The Bradford Group Negotiated Service Agreement
Inbound International
Canada Post—United States Postal Service Contractual Bilateral Agreement for Inbound Market Dominant Services
Market Dominant Product Descriptions
First-Class Mail
[Reserved for Class Description]
Single-Piece Letters/Postcards
[Reserved for Product Description]
Bulk Letters/Postcards
[Reserved for Product Description]
Flats
[Reserved for Product Description]
Parcels
[Reserved for Product Description]
Outbound Single-Piece First-Class Mail International
[Reserved for Product Description]
Inbound Single-Piece First-Class Mail International
[Reserved for Product Description]
Standard Mail (Regular and Nonprofit)
[Reserved for Class Description]
High Density and Saturation Letters
[Reserved for Product Description]
High Density and Saturation Flats/Parcels
[Reserved for Product Description]
Carrier Route
[Reserved for Product Description]
Letters
[Reserved for Product Description]
Flats
[Reserved for Product Description]
Not Flat-Machinables (NFMs)/Parcels
[Reserved for Product Description]
Periodicals
[Reserved for Class Description]
Within County Periodicals
[Reserved for Product Description]
Outside County Periodicals
[Reserved for Product Description]
Package Services
[Reserved for Class Description]
Single-Piece Parcel Post
[Reserved for Product Description]
Inbound Surface Parcel Post (at UPU rates)
[Reserved for Product Description]
Bound Printed Matter Flats
[Reserved for Product Description]
Bound Printed Matter Parcels
[Reserved for Product Description]
Media Mail/Library Mail
[Reserved for Product Description]
Special Services
[Reserved for Class Description]
Ancillary Services
[Reserved for Product Description]
Address Correction Service
[Reserved for Product Description]
Applications and Mailing Permits
[Reserved for Product Description]
Business Reply Mail
[Reserved for Product Description]
Bulk Parcel Return Service
[Reserved for Product Description]
Certified Mail
[Reserved for Product Description]
Certificate of Mailing
[Reserved for Product Description]
Collect on Delivery
[Reserved for Product Description]
Delivery Confirmation
[Reserved for Product Description]
Insurance
[Reserved for Product Description]
Merchandise Return Service
[Reserved for Product Description]
Parcel Airlift (PAL)
[Reserved for Product Description]
Registered Mail
[Reserved for Product Description]
Return Receipt
[Reserved for Product Description]
Return Receipt for Merchandise
[Reserved for Product Description]
Restricted Delivery
[Reserved for Product Description]
Shipper-Paid Forward
[Reserved for Product Description]
Signature Confirmation
[Reserved for Product Description]
Special Handling
[Reserved for Product Description]
Stamped Envelopes
[Reserved for Product Description]
Stamped Cards
[Reserved for Product Description]
Premium Stamped Stationery
[Reserved for Product Description]
Premium Stamped Cards
[Reserved for Product Description]
International Ancillary Services
[Reserved for Product Description]
International Certificate of Mailing
[Reserved for Product Description]
International Registered Mail
[Reserved for Product Description]
International Return Receipt
[Reserved for Product Description]
International Restricted Delivery
[Reserved for Product Description]
Address List Services
[Reserved for Product Description]
Caller Service
[Reserved for Product Description]
Change-of-Address Credit Card Authentication
[Reserved for Product Description]
Confirm
[Reserved for Product Description]
International Reply Coupon Service
[Reserved for Product Description]
International Business Reply Mail Service
[Reserved for Product Description]
Money Orders
[Reserved for Product Description]
Post Office Box Service
[Reserved for Product Description]
Negotiated Service Agreements
[Reserved for Class Description]
HSBC North America Holdings Inc. Negotiated Service Agreement
[Reserved for Product Description]
Bookspan Negotiated Service Agreement
[Reserved for Product Description]
Bank of America Corporation Negotiated Service Agreement
The Bradford Group Negotiated Service Agreement
Part B—Competitive Products
2000 Competitive Product List
Express Mail
Express Mail
Outbound International Expedited Services
Inbound International Expedited Services
Inbound International Expedited Services 1 (CP2008-7)
Inbound International Expedited Services 2 (MC2009-10 and CP2009-12)
Priority Mail
Priority Mail
Outbound Priority Mail International
Inbound Air Parcel Post (at non-UPU rates)
Royal Mail Group Inbound Air Parcel Post Agreement
Inbound Air Parcel Post (at UPU rates)
Parcel Select
Parcel Return Service
International
International Priority Airlift (IPA)
International Surface Airlift (ISAL)
International Direct Sacks—M—Bags
Global Customized Shipping Services
Inbound Surface Parcel Post (at non-UPU rates)
Canada Post—United States Postal Service Contractual Bilateral Agreement for Inbound Competitive Services (MC2009-8 and CP2009-9)
International Money Transfer Service
International Ancillary Services
Special Services
Premium Forwarding Service
Negotiated Service Agreements
Domestic
Express Mail Contract 1 (MC2008-5)
Express Mail Contract 2 (MC2009-3 and CP2009-4)
Express Mail Contract 3 (MC2009-15 and CP2009-21)
Express Mail Contract 4 (MC2009-34 and CP2009-45)
Express Mail Contract 5 (MC2010-5 and CP2010-5)
Express Mail Contract 6 (MC2010--6 and CP2010-6)
Express Mail Contract 7 (MC2010--7 and CP2010-7)
Express Mail & Priority Mail Contract 1 (MC2009-6 and CP2009-7)
Express Mail & Priority Mail Contract 2 (MC2009-12 and CP2009-14)
Express Mail & Priority Mail Contract 3 (MC2009-13 and CP2009-17)
Express Mail & Priority Mail Contract 4 (MC2009-17 and CP2009-24)
Express Mail & Priority Mail Contract 5 (MC2009-18 and CP2009-25)
Express Mail & Priority Mail Contract 6 (MC2009-31 and CP2009-42)
Express Mail & Priority Mail Contract 7 (MC2009-32 and CP2009-43)
Express Mail & Priority Mail Contract 8 (MC2009-33 and CP2009-44)
Parcel Select & Parcel Return Service Contract 1 (MC2009-11 and CP2009-13)
Parcel Select & Parcel Return Service Contract 2 (MC2009-40 and CP2009-61)
Parcel Return Service Contract 1 (MC2009-1 and CP2009-2)
Priority Mail Contract 1 (MC2008-8 and CP2008-26)
Priority Mail Contract 2 (MC2009-2 and CP2009-3)
Priority Mail Contract 3 (MC2009-4 and CP2009-5)
Priority Mail Contract 4 (MC2009-5 and CP2009-6)
Priority Mail Contract 5 (MC2009-21 and CP2009-26)
Priority Mail Contract 6 (MC2009-25 and CP2009-30)
Priority Mail Contract 7 (MC2009-25 and CP2009-31)
Priority Mail Contract 8 (MC2009-25 and CP2009-32)
Priority Mail Contract 9 (MC2009-25 and CP2009-33)
Priority Mail Contract 10 (MC2009-25 and CP2009-34)
Priority Mail Contract 11 (MC2009-27 and CP2009-37)
Priority Mail Contract 12 (MC2009-28 and CP2009-38)
Priority Mail Contract 13 (MC2009-29 and CP2009-39)
Priority Mail Contract 14 (MC2009-30 and CP2009-40)
Priority Mail Contract 15 (MC2009-35 and CP2009-54)
Priority Mail Contract 16 (MC2009-36 and CP2009-55)
Priority Mail Contract 17 (MC2009-37 and CP2009-56)
Priority Mail Contract 18 (MC2009-42 and CP2009-63)
Priority Mail Contract 19 (MC2010-1 and CP2010-1)
Priority Mail Contract 20 (MC2010-2 and CP2010-2)
Priority Mail Contract 21 (MC2010-3 and CP2010-3)
Priority Mail Contract 22 (MC2010-4 and CP2010-4)
Priority Mail Contract 23 (MC2010-9 and CP2010-9)
Outbound International
Direct Entry Parcels Contracts
Direct Entry Parcels 1 (MC2009-26 and CP2009-36)
Global Direct Contracts (MC2009-9, CP2009-10, and CP2009-11)
Global Expedited Package Services (GEPS) Contracts
GEPS 1 (CP2008-5, CP2008-11, CP2008-12, CP2008-13, CP2008-18, CP2008-19, CP2008-20, CP2008-21, CP2008-22, CP2008-23, and CP2008-24)
Global Expedited Package Services 2 (CP2009-50)
Global Plus Contracts
Global Plus 1 (CP2008-8, CP2008-46 and CP2009-47)
Global Plus 2 (MC2008-7, CP2008-48 and CP2008-49)
Inbound International
Inbound Direct Entry Contracts with Foreign Postal Administrations
Inbound Direct Entry Contracts with Foreign Postal Administrations (MC2008-6, CP2008-14 and MC2008-15)
Inbound Direct Entry Contracts with Foreign Postal Administrations 1 (MC2008-6 and CP2009-62)
International Business Reply Service Competitive Contract 1 (MC2009-14 and CP2009-20)
Competitive Product Descriptions
Express Mail
[Reserved for Group Description]
Express Mail
[Reserved for Product Description]
Outbound International Expedited Services
[Reserved for Product Description]
Inbound International Expedited Services
[Reserved for Product Description]
Priority
[Reserved for Product Description]
Priority Mail
[Reserved for Product Description]
Outbound Priority Mail International
[Reserved for Product Description]
Inbound Air Parcel Post
[Reserved for Product Description]
Parcel Select
[Reserved for Group Description]
Parcel Return Service
[Reserved for Group Description]
International
[Reserved for Group Description]
International Priority Airlift (IPA)
[Reserved for Product Description]
International Surface Airlift (ISAL)
[Reserved for Prduct Description]
International Direct Sacks—M-Bags
[Reserved for Product Description]
Global Customized Shipping Services
[Reserved for Product Description]
International Money Transfer Service
[Reserved for Product Description]
Inbound Surface Parcel Post (at non-UPU rates)
[Reserved for Product Description]
International Ancillary Services
[Reserved for Product Description]
International Certificate of Mailing
[Reserved for Product Description]
International Registered Mail
[Reserved for Product Description]
International Return Receipt
[Reserved for Product Description]
International Restricted Delivery
[Reserved for Product Description]
International Insurance
[Reserved for Product Description]
Negotiated Service Agreements
[Reserved for Group Description]
Domestic
[Reserved for Product Description]
Outbound International
[Reserved for Group Description]
Part C—Glossary of Terms and Conditions [Reserved]
Part D—Country Price Lists for International Mail [Reserved]

[FR Doc. 2010-1452 Filed 1-25-10; 8:45 am]

BILLING CODE 7710-FW-S